DEPARTMENT OF ENERGY

Federal Energy Regulatory Commission

[Docket No. CP15-17-000]

Sabal Trail Transmission, LLC; Notice of Request for Extension of Time

Take notice that on March 10, 2023, Sabal Trail Transmission, LLC (Sabal Trail) requested that the Federal Energy Regulatory Commission (Commission) grant an extension of time, until May 1, 2025, to complete Phase III of their Sabal Trail Project, originally authorized in the February 2, 2016 Order Issuing Certificate Under Section 7 of the Natural Gas Act (February 2 Order).¹ This project involved the construction, in three phases, of interstate pipeline facilities that would allow Sabal Trail to provide up to 1,075,000 dekatherms per day (Dth/d) of transportation service to delivery points in the southeastern United States. Ordering Paragraph (F)(1) of the February 2 Order, as amended, provided a deadline of May 1, 2021, to make Phase III of their project facilities available for service.

¹ See Florida Southeast Connection, LLC, et al., 154 FERC ¶ 61,080 (2016) (February 2 Order), order on reh'g, Florida Southeast Connection, LLC, et al., 156 FERC ¶ 61,160 (2016), order on remand, Florida Southeast Connection, LLC, et al., 162 FERC ¶ 61,233 (2018).

On April 7, 2021, Sabal Trail filed a request for an extension of time, until May 1, 2023, to complete construction of the project and place Phase III of the remaining facilities—two compressor units—into service. The Commission granted that requested extension of time on June 15, 2021.² That delegated order recognized that Sabal Trail had placed all other facilities into service and its pipeline system was capable of providing up to 999,000 Dth/d of firm transportation service.

² Sabal Trail Transmission, LLC, Docket No. CP15-17-000 (June 15, 2021) (delegated order).

Sabal Trail now states that, due to adverse economic and logistical conditions induced, in part, by the COVID-19 pandemic, commercial progress was slowed. Sabal Trail now states that these unforeseen circumstances precluded the project from reaching full commercialization, and that additional time is now required to complete the installation of the remaining two compressor units and make them available for service.

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TTY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on March 30, 2023.

Dated: March 15, 2023.
Kimberly D. Bose,
Secretary.

[FR Doc. 2023-05791 Filed 3-21-23; 8:45 am]

BILLING CODE 6717-01-P